DEPARTMENT OF COMMERCE

National Oceanic and Atmospheric Administration

Agency Information Collection Activities; Submission to the Office of Management and Budget (OMB) for Review and Approval; Comment Request; 3D Nation Elevation Data Requirements and Benefits Study

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 30, 2021.

ADDRESSES: Interested persons are invited to submit written comments to Adrienne Thomas, NOAA PRA Officer, at Adrienne.thomas@noaa.gov. Please reference OMB Control Number 0648-0762 in the subject line of your comments. Do not submit Confidential Business Information or otherwise sensitive or protected information.

FOR FURTHER INFORMATION CONTACT: Requests for additional information or specific questions related to collection activities should be directed to Ashley Chappell, NOAA Integrated Ocean and Coastal Mapping Coordinator, 1315 East West Hwy., SSMC3, Rm 6813, Silver Spring, MD 20910, 240-429-0293, or ashley.chappell@noaa.gov.

SUPPLEMENTARY INFORMATION:

I. Abstract

This is a request for extension of a currently approved information collection.

NOAA, the U.S. Geological Survey (USGS), and partner mapping agencies are working to improve the technology systems, data, and services that provide information about 3D data and related applications within the United States. By continuing to learn about business uses and associated benefits that would be realized from improved 3D data, the agencies can more effectively prioritize and direct investments that will best serve user needs. The 3D Nation Elevation Data Requirements and Benefits Study [3D Nation Study] is part of the continuing effort to develop and refine future program alternatives that would provide enhanced 3D data to meet many Federal, State, and other national business needs.

In 2017, NOAA and the USGS initiated a 3D Nation Study follow-on to the National Enhanced Elevation Assessment (NEEA) white paper finalized in 2012 (NEEA overview can be found at https://pubs.usgs.gov/fs/2012/3088/). The 3D Nation Study incorporates coastal and ocean requirements for elevation data together with terrestrial elevation data needs. The primary tool to gather information is a questionnaire covering a wide range of business uses that depend on 3D data to inform policy, regulation, scientific research, and management decisions. For purposes of the study, 3D data refers to topographic elevation data (precise three-dimensional measurements of the terrestrial terrain) and bathymetric elevation data (three-dimensional surface of the underwater terrain). The 3D Nation Study seeks to understand needs for 3D elevation data in terms of mission critical activities, geographic extents of data needs, accuracy requirements, frequency needed, and anticipated benefits of having the required data. The study also aims to describe 3D elevation data needs in relation to other data types such as the shoreline; characteristics of tides, currents, and waves; and the physical and chemical properties of the water itself.

Because 3D data are collected and used to meet a wide range of mission critical needs, the 3D Nation Study seeks input from managers and data users from a variety of government entities (e.g., Federal, State, local, Tribal) as well as not for profit, academic, and private/commercial entities. The findings will update a baseline of national business needs and associated benefits for 3D data and associated technologies. This baseline enhances the responsiveness of NOAA, USGS, and partner agency programs to stakeholder needs. It is intended to inform the design of directed future programs that balance requirements, benefits, and costs at a national scale. Collected responses are aggregated at the agency, organization, state and national levels. Responses associated with individuals are not distributed. The information collection is conducted using a standardized template. Responses are one-time and voluntary. In-person interviews to clarify questionnaire results may also be arranged. The current version of the study questionnaire is available at the 3D Nation Study information site (https://my.usgs.gov/confluence/display/3DNationStudy/Questionnaire).

II. Method of Collection

Emails are sent to a comprehensive list of stakeholders, with requests to forward to any other interested participants. The emails include a link to the online survey, which can also be provided upon request by paper or other means. In-person interviews may follow to resolve questions, clarify answers and add more detail to responses. Responses may be summarized at the organization level and verified by respondents willing for their input to be included in final reports and appendices.

III. Data

OMB Control Number: 0648-0762.

Form Number(s): None.

Type of Review: Regular submission (extension of a current information collection).

Affected Public: Federal government, State, local or tribal governments; not-for-profit institutions, academia, business or other for-profit organizations.

Estimated Number of Respondents: 600.

Estimated Time per Response: 2 hours.

Estimated Total Annual Burden Hours: 1200.

Estimated Total Annual Cost to Public: $0 in recordkeeping/reporting activities.

Respondent's Obligation: Voluntary.

Legal Authority: Coast and Geodetic Survey Act of 1947 (33 U.S.C. 883a et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-01954 Filed 1-28-21; 8:45 am]

BILLING CODE 3510-JE-P